INTERNATIONAL TRADE COMMISSION

[Investigation No. 337-TA-1415]

Certain Pre-Stretched Synthetic Braiding Hair and Packaging Therefor; Notice of Commission Final Determination To Issue a Limited Exclusion Order and Cease and Desist Orders; Termination of the Investigation

AGENCY: U.S. International Trade Commission.

ACTION: Notice.

SUMMARY: Notice is hereby given that the U.S. International Trade Commission has determined to issue a limited exclusion order (“LEO”) barring entry of certain infringing pre-stretched synthetic braiding hair and packaging therefor that are imported by or on behalf of: A-Hair Import Inc. of Norcross, Georgia (“A-Hair”); Crown Pacific Group Inc. of Doraville, Georgia (“Crown Pacific”); Loc N Products, LLC of Atlanta, Georgia (“Loc N”); Vivace, Inc. d/b/a Dae Do Inc. of Levittown, New York (“Dae Do”); and Zugoo Import Inc. of Norcross, Georgia (“Zugoo”) (collectively, “Defaulting Respondents”). The Commission has also determined to issue cease and desist orders (“CDOs”) against each of Defaulting Respondents. The investigation is terminated.

FOR FURTHER INFORMATION CONTACT: Houda Morad, Office of the General Counsel, U.S. International Trade Commission, 500 E Street SW, Washington, DC 20436, telephone (202) 708-4716. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On September 9, 2024, the Commission instituted this investigation based on a complaint filed by JBS Hair of Atlanta, GA (“Complainant”). 89 FR 73123-24 (Sept. 9, 2024). The complaint, as supplemented, alleges violations of section 337 of the Tariff Act of 1930, as amended, 19 U.S.C. 1337 (“section 337”), based upon the importation into the United States, the sale for importation, and the sale within the United States after importation of certain pre-stretched synthetic braiding hair and packaging therefor by reason of the infringement of certain claims of U.S. Patent Nos. 10,786,026; 10,945,478; and 10,980,301. In addition to Defaulting Respondents, the Commission's notice of investigation named the following respondents: (1) Sun Taiyang Co., Ltd. d/b/a Outre® of Moonachie, NJ; Beauty Elements Corporation d/b/a Bijouz® of Miami Gardens, FL; Hair Zone, Inc. d/b/a Sensationnel® of Moonachie, NJ; Beauty Essence, Inc. d/b/a Supreme™ Hair US of Moonachie, NJ; SLI Production Corp. d/b/a It's a Wig! of Moonachie, NJ; Royal Imex, Inc. d/b/a Zury® Hollywood of Santa Fe Springs, CA; GS Imports, Inc. d/b/a Golden State Imports, Inc. of Paramount, CA; Eve Hair, Inc. of Lakewood, CA; Midway International, Inc. d/b/a BOBBI BOSS of Cerritos, CA; Mayde Beauty Inc. of Port Washington, NY; Hair Plus Trading Co., Inc. d/b/a Femi Collection of Suwanee, GA; Optimum Solution Group LLC d/b/a Oh Yes Hair of Duluth, GA; Chade Fashions, Inc. of Niles, IL; Mane Concept Inc. of Moonachie, NJ; Beauty Plus Trading Co., Inc. d/b/a Janet Collection™ of Moonachie, NJ; Model Model Hair Fashion, Inc. of Port Washington, NY; New Jigu Trading Corp. d/b/a Harlem 125® of Port Washington, NY; Shake N Go Fashion, Inc. of Port Washington, NY; and Amekor Industries, Inc. d/b/a Vivica A. Fox® Hair Collection of Conshohocken, PA (collectively, “Remaining Respondents”); and (2) Chois International, Inc. of Norcross, GA (“Chois”); I & I Hair Corp. of Dallas, TX (“I & I Hair”); Kum Kang Trading USA, Inc. d/b/a BNGHAIR of Paramount, CA (“Kum Kang”); Mink Hair, Ltd. d/b/a Sensual® Collection of Wayne, NJ (“Mink Hair”); Oradell International Corp. d/b/a MOTOWN TRESS of Manalapan, NJ (“Oradell”); and Twin Peak International, Inc. d/b/a Dejavu Hair of Atlanta, GA (“Twin Peak”) (collectively, “Consent Order Respondents”). Id. The Office of Unfair Import Investigations (“OUII”) was also named as a party in this investigation. Id. at 73124.

On December 2, 2024, the Commission granted Complainant's motion to amend the complaint and notice of investigation to add JMS Trading Corp. of Buena Park, California (“JMS Trading”) as a respondent to this investigation and to make several ministerial updates to the complaint. See Order No. 15 (Nov. 4, 2024), unreviewed by Comm'n Notice (Dec. 6, 2024); see also 89 FR 97068-69 (Dec. 6, 2024).

The Commission previously terminated Consent Order Respondents and JMS Trading based on entry of consent order stipulations and consent orders. See Order No. 10 (Oct. 18, 2024), unreviewed by Comm'n Notice (Nov. 15, 2024) (Kum Kang, Mink Hair, and Oradell); Order No. 16 (Nov. 14, 2024), unreviewed by Comm'n Notice (Dec. 11, 2024) (I & I Hair); Order No. 28 (Dec. 23, 2024), unreviewed by Comm'n Notice (Jan. 21, 2025) (JMS Trading); Order No. 29 (Jan. 7, 2025) (Chois) & Order No. 30 (Twin Peak) (Jan. 7, 2025), unreviewed by Comm'n Notice (Jan. 30, 2025).

The Commission also previously found Defaulting Respondents to be in default. See Order No. 26 (Dec. 19, 2024), unreviewed by Comm'n Notice (Jan. 17, 2025) (Loc N); Order No. 31 (Feb. 4, 2025), unreviewed by Comm'n Notice (Feb. 24, 2025) (Dae Do and A-Hair); Order No. 32 (Feb. 14, 2025), unreviewed by Comm'n Notice (Mar. 11, 2025) (Crown Pacific); Order No. 34 (Feb. 24, 2025), unreviewed by Comm'n Notice (Mar. 24, 2025) (Zugoo).

On April 10, 2025, the presiding administrative law judge issued an initial determination (“ID”) (Order No. 44) terminating the investigation based on withdrawal of the complaint pursuant to Commission Rule 210.21(a) (19 CFR 210.21(a)) as to Remaining Respondents.

On April 15, 2025, Complainant filed a document titled “Written Submission on Remedy, Bonding and Public Interest with Respect to Defaulting Respondents” (“JBS Hair's Remedy Submission”).

On April 29, 2025, the Commission issued a notice determining not to review the ID terminating the investigation as to Remaining Respondents (Order No. 44). See 90 FR 18991-93 (May 5, 2025). The Commission also requested briefing on remedy, the public interest and bonding from the parties and from any other interested third-party. Id. The Commission further stated that it “considers JBS Hair's Remedy Submission to be a declaration seeking relief against defaulting respondents pursuant to Commission Rule 210.16(c)(1) (19 CFR 210.16(c)(1)).” Id. at 18992.

On May 8, 2025, Complainant filed a written submission on remedy, the public interest, and bonding, requesting entry of an LEO and CDOs against Defaulting Respondents under section 337(g)(1) and Commission Rule 210.16(c). On May 14, 2025, OUII and defaulting respondent A-Hair filed written submissions on remedy, the public interest, and bonding. In particular, A-Hair argues that the Commission should not presume that a domestic industry exists under section 337(g)(1) because certain respondents have challenged whether Complainant could establish a domestic industry. On May 21, 2025, Complainant and OUII filed responses to A-Hair's submission.

The Commission rejects A-Hair's arguments. A-Hair itself recognizes that as a defaulting respondent, it has forfeited any “right . . . to contest the allegations at issue in the investigation.” 19 CFR 210.16(b)(4); see also Certain Opaque Polymers, Inv. No. 337-TA-883, Comm'n Op., 2015 WL 13817115, *12 (Apr. 30, 2015), aff'd, Organik Kimya, San. ve Tic. A.S. v. ITC, 848 F.3d 994 (Fed. Cir. 2017) (“Organik Kimya's challenge to the scope of an exclusion order is based on whether any and all trade secrets are unknown to the public and would be difficult to design around. These issues all go the merits, which Organik Kimya has waived by default.”). The present investigation is also distinct from Certain Percussive Massage Devices, cited by A-Hair, because there is no pending challenge or adjudication of any allegation in the complaint, such that the Commission would have any cause to refute Complainant's allegations as to domestic industry. See Certain Percussive Massage Devices, Inv. No. 337-TA-1206, Comm'n Notice, 2021 WL 5514134 (Nov. 22, 2021).

When the conditions in section 337(g)(1)(A)-(E) (19 U.S.C. 1337(g)(1)(A)-(E)) have been satisfied, section 337(g)(1) and Commission Rule 210.16(c) (19 CFR 210.16(c)) direct the Commission, upon request, to issue a limited exclusion order or a cease and desist order or both against a respondent found in default, based on the allegations regarding a violation of section 337 in the complaint, which are presumed to be true, unless after consideration of the public interest factors in section 337(g)(1), it finds that such relief should not issue.¹

¹ The Commission considers the notice of intent to default filed by respondents Zugoo, Crown Pacific, A-Hair, and Dae Do as an effective withdrawal of their answer to the complaint and notice of investigation. The Commission therefore finds that section 337(g)(1) applies to all of the Defaulting Respondents.

Accordingly, having examined the record of this investigation, including the parties' submissions on remedy, the public interest, and bonding, the Commission has determined pursuant to section 337(g)(1) (19 U.S.C. 1337(g)(1)) that the appropriate remedy in this investigation is: (1) an LEO prohibiting the unlicensed entry of certain infringing pre-stretched synthetic braiding hair and packaging therefor that are imported by or on behalf of Defaulting Respondents; and (2) CDOs against each of Defaulting Respondents. The Commission has determined that the public interest factors enumerated in subsection 337(g)(1) do not preclude the issuance of the LEO and CDOs.²

² Chair Karpel agrees with the majority that the Commission's authority to issue the LEO and CDO with regard to Loc N is pursuant to section 337(g)(1) because the criteria in subsections 337(g)(1)(A)-(E) are satisfied with regard to Loc N, see Order No. 26 (Dec. 19, 2024), unreviewed by Comm'n Notice (Jan. 17, 2025), and the public interest factors do not preclude the issuance of those remedies. However, with respect to Zugoo, Crown Pacific, A-Hair, and Dae Do, Chair Karpel supports issuance of an LEO pursuant to sections 337(d)(1) and CDOs pursuant to 337(f)(1) because the criteria in subsections 337(g)(1)(A)-(E) are not met as to those respondents. She does not agree with the majority that the notice of intent to default filed by those respondents functions to withdraw their previously filed answer to the complaint and notice of investigation. She finds that the public interest factors in sections 337(d)(1) and (f)(1) do not preclude the LEO or CDOs with respect to Zugoo, Crown Pacific, A-Hair, and Dae Do.

The Commission has further determined that the bond during the period of Presidential review pursuant to section 337(j) (19 U.S.C. 1337(j)) shall be in the amount of one hundred percent (100%) of the entered value of the infringing articles.

The investigation is terminated.

The Commission's vote for this determination took place on September 29, 2025.

The authority for the Commission's determination is contained in section 337 of the Tariff Act of 1930, as amended (19 U.S.C. 1337), and in part 210 of the Commission's Rules of Practice and Procedure (19 CFR part 210).

By order of the Commission.
Issued: September 29, 2025.
Lisa Barton,
Secretary to the Commission.

[FR Doc. 2025-19223 Filed 10-1-25; 8:45 am]

BILLING CODE 7020-02-P